DEPARTMENT OF AGRICULTURE

Farm Service Agency

Information Collection; Transfer of Farm Records Between Counties

AGENCY: Farm Service Agency, USDA.

ACTION: Notice; request for comments.

SUMMARY: In accordance with the Paperwork Reduction Act of 1995, the Farm Service Agency (FSA) is seeking comments from interested individuals and organizations on an extension with a revision of a currently approved information collection associated with transferring of farm records from one administrative county office to another.

DATES: We will consider comments that we receive by June 9, 2014.

ADDRESSES: We invite you to submit comments on this Notice. In your comment, include volume, date and page number of this issue of the Federal Register. You may submit comments by any of the following methods:

• Federal eRulemaking Portal: Go to: www.regulations.gov. Follow the online instructions for submitting comments.

• Mail: Melonie Sullivan, Agricultural Program Specialist, Program Policy Branch, 1400 Independence Avenue SW., STOP 0512, Washington, DC 20250-0512.

You may also send comments to the Desk Officer for Agriculture, Office of Information and Regulatory Affairs, Office of Management and Budget, Washington, DC 20503. Copies of the information collection may be requested by contacting Melonie Sullivan.

FOR FURTHER INFORMATION CONTACT: Melonie Sullivan; (202) 690-1003.

SUPPLEMENTARY INFORMATION: Title: Transfer of Farm Records Between Counties.

OMB Control Number: 0560-0253.

Type of Request: Extension with a revision.

Abstract: Farm owners or operators may elect to transfer farm records between FSA county offices when the principal dwelling of the farm operator has changed; a change has occurred in the operation of the land; or there has been a change that would cause the receiving administrative county office to be more accessible, such as the construction of a new highway, relocation of the county office building site, etc. The transfer of farm records is also required when an FSA county office closes. The FSA County Committees from both the transferring and receiving counties must approve or disapprove all proposed farm record transfers. In some cases, the State Committee and/or the National Office must also approve or disapprove proposed farm record transfers.

The revision is due to the reduction in number of FSA County Offices. FSA currently has 2,140 county offices, whereas there were 2,300 county offices at the time of the previous request. The total annual burden hours are reduced by 2,053 hours in the request.

Estimated Average Time to Respond: Public reporting burden for collection of this information is estimated to average 10 minutes per response. The average travel time, which is included in the total annual burden, is estimated to be 1 hour per respondent.

Type of Respondents: Owners and operators.

Estimate of Burden: Average 10 minutes per response. The average travel time, which is included in the total annual burden, is estimated to be 1 hour per respondent.

Estimated Number of Respondents: 21,240.

Estimated Number of Responses per Respondent: 1.

Estimated Annual Number of Responses: 21,240.

Estimated Total Annual Burden on Respondents: 24,780.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected; and

(4) Minimize the burden of the collection of information on those who are to respond, including through the use of appropriate automated, electronic, mechanical, or other technological collection techniques or other forms of information technology.

All responses to this notice, including name and addresses when provided, will be summarized and included in the request for OMB approval. All comments will also become a matter of public record.

Signed on April 2, 2014.
Juan M. Garcia,
Administrator, Farm Service Agency.

[FR Doc. 2014-07867 Filed 4-8-14; 8:45 am]

BILLING CODE 3410-05-P